DEPARTMENT OF THE INTERIOR

Fish and Wildlife Service

[FWS-R2-ES-2015-N200; FXES11130200000C2-112-FF02ENEH00]

Endangered and Threatened Wildlife and Plants; Gila Chub Draft Recovery Plan

AGENCY: Fish and Wildlife Service, Interior.

ACTION: Notice of availability; request for comment.

SUMMARY: We, the Fish and Wildlife Service (Service), announce the availability of our draft recovery plan for the Gila chub, which is listed as endangered under the Endangered Species Act of 1973, as amended (Act). This fish species is currently found in Arizona and New Mexico in the United States, and in northern Mexico. The draft recovery plan includes specific recovery objectives and criteria to be met in order to enable us to remove this species from the list of endangered and threatened wildlife and plants. We request review and comment on this plan from local, State, and Federal agencies; Tribes; and the public. We will also accept any new information on the status of the Gila chub throughout its range to assist in finalizing the recovery plan.

DATES: To ensure consideration, we must receive written comments on or before December 28, 2015. However, we will accept information about any species at any time.

ADDRESSES: If you wish to review the draft recovery plan, you may obtain a copy by any one of the following methods:

Internet: Access the file at www.fws.gov/southwest/es/Documents/R2ES/GilaChub_DraftRecoveryPlan_Final_October2014.pdf;

U.S. mail: U.S. Fish and Wildlife Service, 2321 West Royal Palm Road, Suite 103, Phoenix, AZ 85021-4951; or

Telephone: (602) 242-0210.

If you wish to comment on the draft recovery plan, you may submit your comments in writing by any one of the following methods:

• U.S. mail: Field Supervisor, at the above address;

• Hand-delivery: Arizona Ecological Services Field Office, at the above address;

• Fax: (602) 242-2513; or

• Email: Steve_Spangle@fws.gov.

For additional information about submitting comments, see the “Request for Public Comments” section below.

FOR FURTHER INFORMATION CONTACT: Steve Spangle, Field Supervisor, Arizona Ecological Services Field Office, at the above address and phone number, or by email at Steve_Spangle@fws.gov.

SUPPLEMENTARY INFORMATION:

Background

Recovery of endangered or threatened animals and plants to the point where they are again secure, self-sustaining members of their ecosystems is a primary goal of our endangered species program and the Act (16 U.S.C. 1531 et seq.). Recovery means improvement of the status of listed species to the point at which listing is no longer appropriate under the criteria set out in section 4(a)(1) of the Act. The Act requires the development of recovery plans for listed species, unless such a plan would not promote the conservation of a particular species.

Species History

Gila chub was listed as endangered throughout its range with critical habitat on November 2, 2005 (effective date December 2, 2005). The species has a recovery priority number of 2C, which is based on a high degree of threat, high potential for recovery, taxonomic classification as a species, and potential for conflict over resources (primarily water) and economic development. Gila chub is included on the Arizona Game and Fish Departments' draft species of concern (1996), and possession of Gila chub in Arizona is prohibited except where such collection is authorized by special permit. The species was listed by the New Mexico Department of Game and Fish as endangered in 1988. Gila chub is listed as endangered by The Republic of Mexico; a recovery plan, or Program de Acción para la Conservación de las Especies (PACE), has not been developed for this species in Mexico.

Gila chub is a member of the roundtail chub (Gila robusta) complex in the Gila River basin, which also includes headwater chub (G. nigra). Gila chub is a thick-bodied species, chunky in aspect, with females reaching 250 millimeters (mm) (10 inches [in]) in total length, and males rarely exceeding 150 mm (6 in). Body coloration is typically dark overall, with a lighter belly speckled with gray; fins are small. Breeding males, and to a lesser extent females, develop red or orange on lower parts of the head and body and on bases of the pectoral, pelvic, and anal fins.

Gila chub is considered a habitat generalist (Schultz and Bonar 2006), and commonly inhabits pools in smaller (higher order) streams and cienegas throughout its range in the Gila River basin, at elevations between 609 and 1,676 meters (m) (2,000-5,500 feet [ft]) (Miller 1946, Minckley 1973, Rinne 1976, Weedman et al. 1996). Gila chub is a highly secretive species, remaining near cover, including undercut banks, terrestrial vegetation, boulders, root wads, fallen logs, and thick overhanging or aquatic vegetation in deeper waters, especially pools (Minckley and Rinne 1991, Nelson 1993, Weedman et al. 1996).

Historically, Gila chub was recorded from nearly 50 higher order streams throughout the Gila River basin in southwestern New Mexico, central and southeastern Arizona, and northern Sonora, Mexico (Miller and Lowe 1967, Rinne and Minckley 1970, Minckley 1973, Rinne 1976, DeMarais 1986, Sublette et al. 1990, Weedman et al. 1996). Recent literature indicates that approximately 25 of these localities are considered occupied, and most are small and isolated, and face one or more threats (Weedman et al. 1996, USFWS 2005, Clarkson et al. 2012).

It was also estimated that 90 percent of the currently occupied habitat is degraded, due to the presence of nonnative fishes and land management actions. The few remaining small, isolated populations are vulnerable to environmental conditions such as drought, flood events, and wildfire. Primary threats to Gila chub, such as nonnative fish predation and competition, and secondary threats identified as habitat alteration, destruction, and fragmentation, are all factors identified in the final rule that contribute to the consideration that Gila chub is likely to become extinct throughout all or a significant portion of its range (USFWS 2005).

The recovery strategy for Gila chub is to ensure that existing habitat integrity and genetic diversity of the species are adequately protected, represented, and replicated within each of the major subbasins in the greater Gila River watershed, in which the species still resides. This involves protection of remnant populations, through management and regulatory agreements with agencies and partners; captive rearing with appropriate genetic, demographic, and health management for population establishment and supplementation; control of threats of nonnative fish predation and competition, as well as potential hybridization with other chub species; establishment of replicated populations in refuges and selected streams; monitoring of populations under a scientifically based, standardized protocol; and cooperation and education with agencies, partners, Tribes, and Mexico to ensure habitat quantity and quality are maintained and adaptively managed into the future.

The draft recovery plan proposes the delineation of five recovery units (RUs) that represent the major subbasins of the Gila River basin. These RUs cover much of the historical and current habitat for the species in Arizona, New Mexico, and Mexico, and provide a diversity of habitats and represent groupings of Gila chub populations, within which gene flow may have been common historically. Designation of RUs is intended to ensure that the species remains distributed across its historical range in representative ecological settings, and will sustain the remaining genetic, demographic, morphological, behavioral, and other life history elements of the species necessary for the long-term conservation of the entire listed taxon. The strategy to recover Gila chub further relies upon identifying, preserving, and replicating 17 genetic Management Units (MUs) that are distributed among the RUs.

Recovery Plan Goals

The objective of an agency recovery plan is to provide a framework for the recovery of a species so that protection under the Act is no longer necessary. A recovery plan includes scientific information about the species and provides criteria and actions necessary for us to be able to reclassify the species to threatened status or remove it from the List. Recovery plans help guide our recovery efforts by describing actions we consider necessary for the species' conservation, and by estimating time and costs for implementing needed recovery measures. To achieve its goals, this draft recovery plan identifies the following objectives:

1. Maintain and protect all remnant populations in the wild.

2. Ensure representation, resiliency, and redundancy by maintaining genetic diversity and expanding the size and number of populations within Gila chub historical range via replication of remnant populations within each RU.

3. Manage or eliminate nonnative fish predation and competition and associated habitat-related modifications or loss.

4. Improve or develop new State regulations or firm agreements that conserve or improve quality Gila chub habitat.

5. Work with stakeholders to improve and conserve existing and newly established Gila chub populations and their habitats and ensure that appropriate management plans and agreements are in place post-delisting.

6. Promote conservation of Gila chub in Mexico and on Tribal lands by forming partnerships and supporting research, outreach, and conservation management.

7. Monitor remnant, repatriated, and refuge populations to inform adaptive management strategies.

The draft recovery plan contains recovery criteria based on protecting all available remnant populations and replicating each MU in at least two streams. To achieve recovery criteria, threats of nonnative fish predation and competition, habitat alteration and fragmentation, and decreasing water availability should be controlled to manageable levels in streams occupied by Gila chub such that these threats do not pose imminent or chronic downward pressures on population sizes. When the status of Gila chub meets these criteria, the species will no longer meet the conditions of being endangered throughout a significant portion of its range and will no longer warrant listing.

Request for Public Comments

Section 4(f) of the Act requires us to provide public notice and an opportunity for public review and comment during recovery plan development. It is also our policy to request peer review of recovery plans (July 1, 1994; 59 FR 34270). We will summarize and respond to the issues raised by the public and peer reviewers and post our responses on our Web site. Substantive comments may or may not result in changes to the recovery plan; comments regarding recovery plan implementation will be forwarded as appropriate to Federal or other entities so that they can be taken into account during the course of implementing recovery actions. Responses to individual commenters will not be provided, but we will provide a summary of how we addressed substantive comments in an appendix to the approved recovery plan.

We invite written comments on the draft recovery plan. In particular, we are interested in additional information regarding the current threats to the species and the costs associated with implementing the recommended recovery actions. Suggestions of how to craft recovery criteria addressing threats that are objective and measureable are welcome.

Before we approve our final recovery plan, we will consider all comments we receive by the date specified in DATES. Methods of submitting comments are in the ADDRESSES section.

Public Availability of Comments

Before including your address, phone number, email address, or other personal identifying information in your comment, you should be aware that your entire comment—including your personal identifying information—may be made publicly available at any time. While you can ask us in your comment to withhold your personal identifying information from public review, we cannot guarantee that we will be able to do so.

Comments and materials we receive will be available, by appointment, for public inspection during normal business hours at our office (see ADDRESSES).

References Cited

A complete list of all references cited herein is available upon request from the Arizona Ecological Services Field Office (see FOR FURTHER INFORMATION CONTACT section).

Authority

We developed our draft recovery plan under the authority of section 4(f) of the Act, 16 U.S.C. 1533(f). We publish this notice under section 4(f) Endangered Species Act of 1973, as amended (16 U.S.C. 1531 et seq.).

Dated: October 15, 2015.
Benjamin N. Tuggle,
Regional Director, Southwest Region, U.S. Fish and Wildlife Service.

[FR Doc. 2015-27259 Filed 10-26-15; 8:45 am]

BILLING CODE 4310-55-P